DEPARTMENT OF ENERGY

Federal Energy Regulatory Commission

[Project No. 4644-017]

GR Catalyst Two, LLC; Notice of Revised Procedural Schedule

This notice revises the Federal Energy Regulatory Commission's (Commission) schedule for processing the relicense application for the Dahowa Hydroelectric Project No. 4644, which was filed by GR Catalyst Two, LLC (GR Catalyst) December 2, 2024.¹ On December 13, 2024, Commission staff issued a notice of application tendered for filing, which included an initial processing schedule.

¹ The Commission's Rules of Practice and Procedure provide that if a deadline falls on a Saturday, Sunday, holiday, or other day when the Commission is closed for business, the deadline does not end until the close of business on the next business day. 18 CFR 385.2007(a)(2). Because the deadline for filing a license application fell on a Saturday (i.e., November 30, 2024), the deadline was extended until the close of business on Monday, December 2, 2024.

By this notice, Commission staff is updating the procedural schedule. The revised schedule is shown below. Further revisions to the schedule may be made as appropriate.

Milestone | Target date
Issue Deficiency Letter and Request Additional Information | September 2025.
Issue Acceptance Letter | November 2025.
Issue Scoping Notice | January 2026.
Issue Notice of Ready for Environmental Analysis | March 2026.

Any questions regarding this notice may be directed to Claire Rozdilski at (202) 502-8259 or claire.rozdilski@ferc.gov.

Dated: September 8, 2025.
Debbie-Anne A. Reese,
Secretary.

[FR Doc. 2025-17576 Filed 9-10-25; 8:45 am]

BILLING CODE 6717-01-P